DEPARTMENT OF DEFENSE

Department of the Navy

[Docket ID: USN-2025-HQ-0136]

Proposed Collection; Comment Request

AGENCY: Department of the Navy, Department of Defense (DoD).

ACTION: 60-Day information collection notice.

SUMMARY: In compliance with the Paperwork Reduction Act of 1995, the United States Marine Corps Manpower and Reserve Affairs announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 6, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to AR Division, Headquarters Marine Corps3000 Marine Corps, Pentagon Rm 2B253, Mark Kazzi, mark.kazzi@usmc.mil, (571) 256-8883.

SUPPLEMENTARY INFORMATION:

Title; Associated Form; and OMB Number: USMC Family Care Program Forms; NAVMC 1750-16 AND 1750-17; OMB Control Number 0712-FMLY.

Needs and Uses: The information collected on these forms is used to support Child and Youth Program (CYP) and School Liaison Program (SLP) activities. For the many transient families we serve, this information helps connect them with the receiving installation's CYP, SLP, or other partnering programs to ensure continuity of support. When an installation's CYP or SLP becomes aware that a family is outbound, they will often connect the family with the receiving installation's CYP, SLP, or other programs, as needed. The YC Request Form can be used to facilitate this. The form offers guidance on how CYP R&R can connect families. Respondents are parents/guardians and youth and will receive the forms directly (usually through the CYP or SLP offices or online portals). Respondents will complete the forms by providing required personal and education information. Parents/guardians complete Navy/Marine Corps (NAVMC) 1750/16 to receive educational information and assistance from local school districts and CYP programs. Parents/guardians and youth complete NAVMC 1750/17 for an opportunity for their youth to be a peer leader. Completed forms are returned to CYP or SLP offices for processing, either in person or electronically. CYP or SLP staff process the forms once returned. These staff members use the information to provide the appropriate services and/or connect families with the receiving installation's programs. The goal is to support military families by ensuring youth have access to educational resources, peer leadership opportunities, and smooth transitions between installations. It helps maintain continuity of educational and youth services, facilitating family readiness and well-being within military communities.

Affected Public: Individuals or households.

Annual Burden Hours: 2,500.

Number of Respondents: 5,000.

Responses Per Respondent: 1.

Annual Responses: 5,000.

Average Burden Per Response: 30 minutes.

Frequency: One time.

USMC Family Care Branch includes CYP and SLP. The mission of the CYP is to provide quality, accessible and affordable childcare programs and services to support the overall operational readiness and retention of eligible Marine Corps families. The mission of the SLP is to promote awareness of the unique educational needs of military connected children and facilitate successful school transitions. CYP and SLP information collections are necessary to obtain interest in being a peer leader, educational information, and assistance from local school districts and CYP programs to support transitioning families. Peer leaders are representatives of Youth Connection that will attend events and activities, submit paperwork on time, respond to communication, and request help when needed.

Dated: July 31, 2025.
Stephanie J. Bost,
Alternate OSD Federal Register Liaison Officer, Department of Defense.

[FR Doc. 2025-14763 Filed 8-4-25; 8:45 am]

BILLING CODE 6001-FR-P